DEPARTMENT OF DEFENSE

Office of the Secretary

[Transmittal No. 24-127]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-127, Policy Justification, and Sensitivity of Technology.

Dated: January 13, 2026.
Stephanie J. Bost,
Alternate OSD Federal Register Liaison Officer, Department of Defense.

BILLING CODE 6001-FR-P

BILLING CODE 6001-FR-C

Transmittal No. 24-127

Notice of Proposed Issuance of Letter of Offer Pursuant to Section 36(b)(1) of the Arms Export Control Act, as amended

(i) Prospective Purchaser: Government of Australia

(ii) Total Estimated Value:

Major Defense Equipment * | $ 0
Other | $165 million
TOTAL | $165 million

(iii) Description and Quantity or Quantities of Articles or Services under Consideration for Purchase:

Major Defense Equipment (MDE):

None

Non-Major Defense Equipment:

The following non-MDE items will be included: MJU-61 decoy flares; MJU-64 decoy flares; MJU-66 flare countermeasures; MJU-76 flare countermeasures; RR-198A/L chaff cartridges; CCU-145/A impulse cartridges; other support equipment (MK-3 pallet); (United States (U.S.) Government and contractor technical assistance; and other related elements of logistics and program support.

(iv) Military Department: Navy (AT-P-ASW)

(v) Prior Related Cases, if any: AT-P-AEC, AT-P-AEF, AT-P-ADY, AT-P-AMG, AT-P-ANZ, and AT-P-AVD

(vi) Sales Commission, Fee, etc., Paid, Offered, or Agreed to be Paid: None known at this time

(vii) Sensitivity of Technology Contained in the Defense Article or Defense Services Proposed to be Sold: See Attached Annex

(viii) Date Report Delivered to Congress: March 18, 2025

* as defined in Section 47(6) of the Arms Export Control Act.

POLICY JUSTIFICATION

Australia—Countermeasures, Chaff, and Impulse Cartridges

The Government of Australia has requested to buy MJU-61 decoy flares; MJU-64 decoy flares; MJU-66 flare countermeasures; MJU-76 flare countermeasures; RR-198A/L chaff cartridges; CCU-145/A impulse cartridges; other support equipment (MK-3 pallet); U.S. Government and contractor technical assistance; and other related elements of logistics and program support. The estimated total cost is $165 million.

This proposed sale will support the foreign policy and national security objectives of the U. S. Australia is one of our most important allies in the Western Pacific. The strategic location of this political and economic power contributes significantly to ensuring peace and economic stability in the Western Pacific. It is vital to the U.S. national interest to assist our ally in developing and maintaining a strong and ready self-defense capability.

The proposed sale will improve Australia's capability to meet current and future threats by protecting and increasing aircraft survivability. Australia will have no difficulty absorbing this equipment and services into its armed forces.

The proposed sale of this equipment and support will not alter the basic military balance in the region.

The principal contractors will be Kilgore Flares Company, LLC, located in Toone, TN; Armtec Countermeasures Company, located in Coachella, CA; Alloy Surface Company, Inc, located in Aston, PA; Chemring Australia PTY LTD, located in Lara, Australia; and CCI Capco LLC, located in Grand Junction, CO. At this time, the U.S. Government is not aware of any offset agreement proposed in connection with this potential sale. Any offset agreement will be defined in negotiations between the purchaser and the contractor.

Implementation of this proposed sale will require three U.S. Government personnel and one contractor representatives to visit Australia on a temporary basis in conjunction with program technical oversight and support requirements, including program and technical reviews.

There will be no adverse impact on U.S. defense readiness as a result of this proposed sale.

Transmittal No. 24-127

Notice of Proposed Issuance of Letter of Offer Pursuant to Section 36(b)(1) of the Arms Export Control Act

Annex

Item No. vii

(vii) Sensitivity of Technology:

1. Chaff and flare countermeasure systems are critical defensive technologies designed to protect tactical aircraft from enemy threats. Chaff consists of dispersed metallic or conductive strips that generate false radar reflections, confusing enemy radar systems and reducing the probability of a successful radar-guided missile engagement. Flare systems deploy intense infrared-emitting devices to counteract and mislead missiles and tracking systems, diverting them away from the aircraft. These countermeasures collectively enhance the aircraft's defensive capabilities by impairing enemy targeting systems. For training purposes, pilots use simulated chaff and flare systems to practice the deployment and effectiveness of these defensive measures in combat scenarios.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Australia can provide substantially the same degree of protection for the sensitive technology being released as the U.S. Government. This proposed sale is necessary in furtherance of the U.S. foreign policy and national security objectives outlined in the Policy Justification.

5. All defense articles and services listed in this transmittal have been authorized for release and export to the Government of Australia.

[FR Doc. 2026-00786 Filed 1-15-26; 8:45 am]

BILLING CODE 6001-FR-P